FEDERAL COMMUNICATIONS COMMISSION

Radio Broadcasting Services; AM or FM Proposals To Change the Community of License

AGENCY: Federal Communications Commission.

ACTION: Notice.

SUMMARY: The following applicants filed AM or FM proposals to change the community of license: BLOUNT COUNTY BROADCASTING SERVICE INC., Station WKLD, Facility ID 5885, BPH-20080409ACP, From ONEONTA, AL, To UNION GROVE, AL; CARTIER COMMUNICATIONS INC., Station WICY, Facility ID 36122, BP-20080321ABX, From MALONE, NY, To MOOERS, NY; CITICASTERS LICENSES, L.P., Station KATZ-FM, Facility ID 48958, BPH-20080313ABN, From ALTON, IL, To BRIDGETON, MO; COCHISE BROADCASTING, LLC, Station NEW, Facility ID 171027, BMPH-20080319ADW, From SINCLAIR, WY, To RED BUTTE, WY; COLLEGE CREEK MEDIA, LLC, Station KRFD, Facility ID 164154, BMPH-20080404AEE, From THAYNE, WY, To SOUTH PARK, WY; EDUCATIONAL MEDIA FOUNDATION, Station KCAI, Facility ID 90917, BMPED-20080411ABL, From KINGMAN, AZ, To DOLAN SPRINGS, AZ; GAP BROADCASTING BILLINGS LICENSE, LLC, Station KMHK, Facility ID 1315, BPH-20080327AFQ, From HARDIN, MT, To WORDEN, MT; GEORGIA-CAROLINA RADIOCASTING COMPANY, LLC, Station WLVX, Facility ID 84470, BPH-20070413AGU, From ELBERTON, GA, To TIGNALL, GA; GREELEY BROADCASTING CORPORATION, Station KFVR-FM, Facility ID 81305, BPH-20080311ACG, From LA JUNTA, CO, To BEULAH, CO; HUNT BROADCASTING, INC., Station KJKB, Facility ID 855, BPH-20080402ACC, From JACKSBORO, TX, To SCOTLAND, TX; JER LICENSES, LLC, Station NEW, Facility ID 170963, BNPH-20070502AEZ, From FLAGLER, CO, To LOG LANE VILLAGE, CO; LARAMIE MOUNTAIN BROADCASTING, LLC, Station KRGQ, Facility ID 164299, BPH-20080317AFC, From YUMA, CO, To MERINO, CO; LKCM RADIO LICENSES, L.P., Station KKAJ-FM, Facility ID 11181, BPH-20080402ABY, From ARDMORE, OK, To DAVIS, OK; LKCM RADIO LICENSES, L.P., Station KFWR, Facility ID 31062, BPH-20080402ABZ, From MINERAL WELLS, TX, To JACKSBORO, TX; MICHAEL RADIO GROUP, Station KRKI, Facility ID 89114, BPH-20080408AEH, From NEWCASTLE, WY, To BLACK HAWK, SD; MILLER COMMUNICATIONS, INC., Station WWHM, Facility ID 43833, BP-20080404ACC, From SUMTER, SC, To WEDGEFIELD, SC; MILLER COMMUNICATIONS, INC., Station WIBZ, Facility ID 55268, BPH-20080404ACE, From WEDGEFIELD, SC, To QUINBY, SC; MILLER COMMUNICATIONS, INC., Station WIGL, Facility ID 54576, BPH-20080411AAS, From ST. MATTHEWS, SC, To WINNSBORO, SC; PACIFIC WEST BROADCASTING, INC., Station KNCU, Facility ID 81725, BPH-20080331ACV, From NEWPORT, OR, To GLENEDEN, OR; PATHFINDER COMMUNICATIONS CORPORATION, Station WBYR, Facility ID 55659, BPH-20080324AAW, From VAN WERT, OH, To WOODBURN, IN; SCOTT POWELL, Station KHNY, Facility ID 161192, BMP-20080401AQR, From BIG HORN, WY, To HUNTLEY, MT; STEPHANIE LINN, Station KSHL, Facility ID 63205, BPH-20080331ACW, From GLENEDEN BEACH, OR, To COBURG, OR; YOUNGERS COLORADO BROADCASTING LLC, Station KEZZ, Facility ID 165959, BMPH-20080312ADS, From WALDEN, CO, To BERTHOUD, CO.

DATES: Comments may be filed through July 14, 2008.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, D.C. 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com. Federal Communications Commission.

James D. Bradshaw,
Deputy Chief, Audio Division, Media Bureau.

[FR Doc. E8-10761 Filed 5-13-08; 8:45 am]

BILLING CODE 6712-01-P